DEPARTMENT OF COMMERCE

Foreign-Trade Zones Board

(Docket 24-2008)

Foreign-Trade Zone 161 Sedgwick County, Kansas, Application for Subzone Status Hawker Beechcraft Corporation (Aircraft Manufacturing), Wichita and Salina, Kansas

An application has been submitted to the Foreign-Trade Zones Board (the Board) by the Board of County Commissioners of Sedgwick County, grantee of Foreign-Trade Zone (FTZ) 161, requesting special-purpose subzone status for the aircraft manufacturing facilities of Hawker Beechcraft Corporation (HBC) located in Wichita and Salina, Kansas. The application was submitted pursuant to the provisions of the Foreign-Trade Zones Act, as amended (19 U.S.C. 81a-81u), and the regulations of the Board (15 CFR Part 400). It was formally filed on April 17, 2008.

The HBC facilities are as follows: Proposed Site 1, located at 9709 E. Central Avenue, in Wichita (910 acres, 5,700 employees); and, Proposed Site 2, located at 2625 Scanlan Avenue, in Salina (56 acres, 430 employees). The facilities are used for manufacturing various types of aircraft (HTSUS 8802.40, with a weight greater than 15,000kg) (up to 750 aircraft annually). The Wichita facilities are used for final assembly of aircraft as well as other manufacturing support activities, while the Salina facilities are used primarily for manufacturing and fabrication of aircraft assemblies and subassemblies. Imported components and raw materials account for approximately 34 percent of the value of inputs used in manufacturing. Parts and components that may be imported into the proposed subzone sites for manufacturing include: oxygen (2804.40); rubber adhesives or polymers (3506.91); acrylic polymers (3906.10); flexible plastic tubing (3917.31); non-reinforced plastic tubing (3917.32); other plastic tubing (3917.39); plastic tubing with fittings (3917.33); self-adhesive tape (3919.10, 3919.90); plastic sheets (3921.13); plastic handles (3926.30); plastic articles (3926.90); vulcanized rubber plates (4008.11); vulcanized rubber forms (4008.19); reinforced rubber tubes without fittings (4009.41); reinforced rubber tubes with fittings (4009.42); vulcanized rubber gaskets (4016.93); vulcanized rubber articles (4016.99); bags and cases (4202.92); wood boxes (4420.90); rubberized textile fabric (5906.99); lifejackets and lifebelts (6307.20); laminated safety glass (7007.21); glass envelopes for lighting (7011.10); glass sheets (7019.39); glass fibers and articles (7019.90); articles of glass (7020.00); imitation jewelry (7117.90); cast fittings of iron and steel (7307.19); stainless steel flanges (7307.21); threaded elbows (7307.22); tube and pipe fittings (7307.29); threaded elbows and sleeves (7307.92); screws, nuts and bolts (7318.15); threaded articles (7318.19); spring washers (7318.21); cotter and cotter pins (7318.24); other non-threaded articles (7318.29); other springs and leaves of iron and steel (7320.90); articles of iron and steel wire (7326.20); iron and steel hangers and supports (7326.90); stranded copper wire with or without fittings (7413.00); iron, copper and steel washers and spring washers (7415.21); non-alloy aluminum pipes and tubes (7608.10); other alloy aluminum pipes and tubes (7608.20); aluminum pipe or tube fittings (7609.00); aluminum fasteners (7616.10); aluminum articles (7616.99); tungsten articles (8101.99); titanium articles (8108.90); pliers, pincers, tweezers and similar (8203.20); hand-operated spanners and wrenches and their parts (8204.11); socket wrenches and their parts with or without handles, drives and extensions (8204.20); other hand tools (8205.59); vices, clamps and similar and their parts (8205.70); tools and their parts for boring and broaching (8207.60); other interchangeable tools (8207.90); locks (8301.40); parts of base-metal padlocks and locks (8301.60); base- metal hinges and parts (8302.10); base-metal mountings (8302.49); base-metal hooks, eyes and eyelets (8308.10); other base-metal stoppers, caps and lids and other packing accessories (8309.90); fuel and other pumps (8413.30); air or vacuum pumps (8414.59); window, wall or split-system air-conditioning machines and parts (8415.10); air-conditioning machines not incorporating a refrigeration unit (8415.83); parts of air-conditioning machines (8415.90); oil or fuel filters for internal combustion engines (8421.23); other electromechanical appliances with self-contained motors (8479.89); pressure-reducing valves and their parts (8481.10); valves for oleo-hydraulic and pneumatic transmissions (8481.20); iron, copper and steel check valves (8481.30); safety or relief valves (8481.40); other hand-operated appliances and parts (8481.80, 8481.90); ball bearings (8482.10); spherical roller bearings (8482.30); other ball or roller bearings and parts (8482.99); bearing housings/plain shaft bearings (8483.30); gears, gearing and other transmission elements (8483.40); flywheels, pulleys and pulley blocks (8483.50); clutch and shaft couplings (8483.60); toothed-wheels, chain sprockets and other transmission elements (8483.90); gaskets and similar joints of metal sheeting (8484.10, 8484.90); other machine parts (8487.90); single-phase AC motors (8501.40); electric motors and generators (8501.63, ); electric motor and generator parts (8503.00); static convertors (8504.40); electrical transformers, static convertors, conductors and parts (8504.50); starter- motors and starter-generators (8511.40); lead-acid storage batteries (8507.20); voltage and voltage-current regulators and cut-out relays (8511.80); audio frequency electric amplifiers (8518.40); electric sound amplifier sets (8518.50); optical media (8523.40); antennas, antenna reflectors and parts (8529.10); burglar and fire alarms (8531.10); electrical signaling equipment (8531.80); printed circuit assembly parts (8531.90); fuses (8536.10); circuit breakers (8536.30); voltage relays (8536.41, 8536.49); other switches (8536.50); lamp-holders (8536.61); other lamp-holders, plugs and sockets (8536.69); other electrical apparatus for switching circuits or making connections (8536.90); electrical board panels and consoles (8537.10); parts for electrical apparatus (8538.90); electrical filament or discharge lamps and parts (8539.29, 8539.39); electrical machines and parts (8543.70, 8543.90); copper winding wire (8544.11); other winding wire (8544.19); coaxial cable and electric conductors (8544.20); ignition and other wiring sets (8544.30); electrical conductors (8544.49); insulating fittings for electrical machines (8547.90); parachutes and rotochutes (8804.00); corrective or protective spectacles and goggles (9004.90); lasers (9013.20); compasses (9014.10); aeronautical navigation instruments and appliances (9014.20); surveying instruments and appliances (9015.80); calculating instruments (9017.20); breathing appliances and gas masks (9020.00); thermometers and pyrometers (9025.19); hydrometers (9025.80); speedometers, tachometers and stroboscopes (9029.20); instruments for checking voltage and current (9030.39); instruments to measure and check instruments and their parts (9031.80, 9031.90); thermostats (9032.10); hydraulic and pneumatic instruments (9032.81); automatic voltage and voltage-current regulators (9032.89); electric lamps and lighting fittings (9405.20, 9405.40); illuminated signs and name plates (9405.60); plastic parts for lamps and lighting fixtures (9405.92, 9405.99); and, ball-point pens (9608.10). The duty rates on the imported components range from duty-free to 15 percent.

This application requests authority for HBC to conduct the manufacturing activity under FTZ procedures, which would exempt the company from customs duty payments on the imported components used in export production. Approximately 50 percent of production is exported. On domestic sales, the company could choose the lower duty rate (duty-free) that applies to the finished product for the imported components used in manufacturing. HBC may also realize savings related to direct delivery and weekly customs entry procedures. The company will also realize savings on the elimination of duties on materials that become scrap/waste during manufacturing. Additionally, customs duties could possibly be deferred or reduced on foreign status production equipment. The application indicates that the FTZ-related savings would improve the plant's international competitiveness.

In accordance with the Board's regulations, Christopher Kemp of the FTZ staff is designated examiner to investigate the application and report to the Board.

Public comment is invited from interested parties. Submissions (original and 3 copies) shall be addressed to the Board's Executive Secretary at the address listed below. The closing period for their receipt is June 23, 2008. Rebuttal comments in response to material submitted during the foregoing period may be submitted during the subsequent 15-day period (to July 7, 2008).

A copy of the application and accompanying exhibits will be available at each of the following addresses: U. S. Department of Commerce Export Assistance Center, 150 North Main Street, Suite 200, Wichita, Kansas; and, Office of the Executive Secretary, Foreign-Trade Zones Board, Room 2111, U.S. Department of Commerce, 1401 Constitution Avenue, NW, Washington, D.C., 20230. For further information contact Christopher Kemp at christopher_kemp@ita.doc.gov or (202) 482-0862.

Dated: April 17, 2008.
Andrew McGilvray,
Executive Secretary.

[FR Doc. E8-8814 Filed 4-22-08; 8:45 am]

BILLING CODE 3510-DS-P